DEPARTMENT OF THE INTERIOR

National Park Service

Notice of Intent to Repatriate Cultural Items in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.10 (a)(3), of the intent to repatriate cultural items in the possession of the Peabody Museum of Archaeology and Ethnology, Harvard University, Cambridge, MA, that meet the definition of “unassociated funerary objects” under Section 2 of the Act.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

The cultural items are 1 shell gorget, 22 shells, 2 shell ornaments, and 1 ground stone.

In 1929, a cultural item from Stalling’s Island Mound, Columbia County, GA, was acquired by the Peabody Museum of Archaeology and Ethnology. The object, one shell gorget, was collected during a 1928-29 expedition sponsored by the Peabody Museum of Archaeology and Ethnology and led by Cornelius B. and Harriet S. Cosgrove with William Claflin.

Based on the style and typology of the gorget, it dates to the Hollywood phase of the Late Mississippian period (A.D. 1250-1450). This gorget is the type specimen of the “Claflin style” gorget, which is associated with the late prehistoric Mississippian Southeastern Ceremonial Complex (circa A.D. 1400-1500). The burial context indicates that the burial was of a Native American. The Peabody Museum of Archaeology and Ethnology does not have possession or control of the human remains from this site. Oral traditions as well as ethnohistoric and archeological documentation support Stalling’s Island Mound as being within the aboriginal and historical homelands of the Creek, Miccosukee, and Seminole peoples during the Hollywood phase of the Late Mississippian period. With the abandonment of the Stalling's Island settlement just prior to European contact, the population transferred to three distinct tribal towns on the mainland, Coweta, Hitchiti, and Kashita. The Hitchiti are recognized bands among the Miccosukee and Seminole today, and the towns were distinct entities within the Creek, Miccosukee, and Seminole peoples until recent times. These peoples are represented today by the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

Between 1906 and 1929, 22 shells, 2 shell ornaments, and 1 ground stone were collected from Stalling’s Island Mound, Columbia County, GA, by William Claflin. In 1985, the William Claflin Collection was donated to the Peabody Museum. Museum documentation indicates that these cultural items were recovered with human remains and that the human remains were either interred inside, or were associated with, ceramic vessels.

Based on the ceramic style of the vessels that were associated with these cultural items, the items date to the Hollywood phase of the Late Mississippian period (A.D. 1250-1450). The burial context indicates that the burial was of a Native American. The Peabody Museum of Archaeology and Ethnology does not have possession or control of the human remains from these burials. Oral traditions as well as ethnohistoric and archeological documentation support Stalling’s Island Mound as being within the aboriginal and historical homelands of Creek, Miccosukee, and Seminole peoples during the Hollywood Phase of the Late Mississippian period. With the abandonment of the Stalling's Island settlement just prior to European contact, the population transferred to three distinct tribal towns on the mainland, Coweta, Hitchiti, and Kashita. The Hitchiti are recognized bands among the Miccosukee and Seminole today, and the towns were distinct entities within the Creek, Miccosukee, and Seminole peoples until recent times. These peoples are represented today by the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

Based on the above-mentioned information, officials of the Peabody Museum of Archaeology and Ethnology have determined that, pursuant to 43 CFR 10.2 (d)(2)(ii), these 26 cultural items are reasonably believed to have been placed with or near individual human remains at the time of death or later as part of the death rite or ceremony and are believed, by a preponderance of the evidence, to have been removed from a specific burial site of a Native American individual. Officials of the Peabody Museum of Archaeology and Ethnology also have determined that, pursuant to 43 CFR 10.2 (e), there is a relationship of shared group identity that can be reasonably traced between these cultural items and the Creek, Miccosukee, and Seminole peoples, who are represented by the following federally recognized groups: Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma.

This notice has been sent to officials of the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma. Representatives of any other Indian tribe that believes itself to be culturally affiliated with these unassociated funerary objects should contact Patricia Capone, Repatriation Coordinator, Peabody Museum of Archaeology and Ethnology, Harvard University, 11 Divinity Avenue, Cambridge, MA 02138, telephone (617) 496-3702, before November 8, 2001. Repatriation of the cultural items to the Alabama-Quassarte Tribal Town, Oklahoma; Kialegee Tribal Town, Oklahoma; Miccosukee Tribe of Indians of Florida; Muscogee (Creek) Nation, Oklahoma; Poarch Band of Creek Indians of Alabama; Seminole Nation of Oklahoma; Seminole Tribe of Florida, Dania, Big Cypress, Brighton, Hollywood & Tampa Reservations; and Thlopthlocco Tribal Town, Oklahoma may begin after that date if no additional claimants come forward.

Dated: July 18, 2001.
John Robbins,
Assistant Director, Cultural Resources Stewardship and Partnerships.

[FR Doc. 01-25142 Filed 10-5-01; 8:45 am]

BILLING CODE 4310-70-S